DEPARTMENT OF TRANSPORTATION

Federal Highway Administration

Supplemental Environmental Impact Statement: Lake County, Montana

AGENCY: Federal Highway Administration (FHWA), DOT.

ACTION: Notice of Intent.

SUMMARY: The FHWA hereby gives notice that it intends to prepare a Supplemental Environmental Impact Statement (SEIS) for a corridor study to evaluate proposed development of an 11.2 mile section of U.S. Highway 93 between the Red Horn Road/Dublin Gulch road intersection (milepost 37.1) and the Spring Creek/Baptiste Road intersection (milepost 48.3). Access to the area is currently provided by US 93 and the study will evaluate proposed improvements to the existing highway and all practicable alternatives.

FOR FURTHER INFORMATION CONTACT: Dale Paulson, Program Development Engineer, Federal Highway Administration, 2880 Skyway Drive, Helena, Montana 59602; Telephone: (406) 449-5302 ext. 239; or Joel M. Marshik, Manager, Environmental Services and Tribal Liaison, Montana Department of Transportation, 2701 Prospect Avenue, Helena, Montana 59602; Telephone: (406) 444-7632; or Joe Hovenkotter, Confederated Salish and Kootenai Tribes, PO Box 278, Pablo, Montana 59855; Telephone: (406) 675-2700.

SUPPLEMENTARY INFORMATION:

Electronic Access

An electronic copy of this document may be downloaded using a modem and suitable communications software from the Government Printing Office's Electronic Bulletin Board Service at (202) 512-1661. Internet users may reach the Office of the Federal Register's home page at: http://www/nara.gov/fedreg and the Government Printing Office's database at: http://www.access.gpo.gov/.

Background

FHWA, in cooperation with the Montana Department of Transportation (MDT), and the Confederated Salish and Kootenai Tribes (CSKT) prepared a Final Environmental Impact Statement (FEIS) and Section 4(f) Evaluation on June 17, 1996, to describe the proposed project, alternatives and the social, economic, and environmental impacts. The FEIS (FHWA-MT-EIS-95-01-F) covered the area from Evaro (MP 6.5) to the north end of Polson at milepost 62.8. A Record of Decision (ROD) was prepared on August 12, 1996, and modified on February 9, 1998, which selected the existing alignment for improvements. However, this ROD was unique in that FHWA deferred making a decision on lane configurations until agreement was reached on a number of issues including design features and mitigation measures.

FHWA, MDT and CSKT have since negotiated a Memorandum of Agreement (MOA) dated December 20, 2000. The MOA lays out a conceptual lane configuration, design features and mitigation measures for 30.8 miles of US 93 from Evaro to the Red Horn Road/Dublin Gulch Road intersection (MP 37.1) and for 10.6 miles of US 93 from the Spring Creek Road/Baptiste Road intersection (MP 48.3) to Polson. Currently a re-evaluation is underway on the section of US 93 which extends from Evaro to Polson, with the exception of the 11.2 mile stretch between Red Horn Road and Spring Creek Road, known as the Ninepipe segment.

Due to extensive environmental and cultural issues, the segment from the vicinity of Red Horn Road on the south to Spring Creek Road on the north was excepted out of the MOA, as well as the Re-evaluation. This segment, referred to as the Ninepipe segment, requires additional environmental studies. FHWA, in cooperation with MDT and CSKT, will prepare a Supplemental Environmental Impact Statement (SEIS) to explore alternatives for the Ninepipe segment, and to evaluate impacts resulting from new circumstances and additional information relevant to environmental and cultural concerns for this 11.2-mile section of US-93.

The SEIS will evaluate the short and long-term impacts of a range of alternatives, including but not limited to; no-build, upgrading the existing facility, and construction on a new alignment. This impact assessment will include, but not be limited to, impacts on wetlands, wildlife and fisheries; social environment; changes in land use; aesthetics; changes in traffic and economic impacts. Environmental Justice (as outlined in Executive Order 12898) will also be addressed as part of the impact assessment. The SEIS will also examine measures to mitigate significant adverse impacts resulting from the proposed action.

Comments are being solicited from appropriate federal, state, tribal, and local agencies and from private organizations and citizens who have interest in this proposal. Public information meetings will be held in the project area to discuss the potential alignments. The draft SEIS will be made available for public and agency review; and a public hearing will be held to receive comments. Public notice will be given of the time and place of all meetings and hearings.

Comments and/or suggestions from all interested parties are requested, to ensure that the full range of all issues, and significant environmental issues in particular, are identified and reviewed. Comments or questions concerning this proposed action and/or its SEIS should be directed to FHWA, MDT or CSKT at the addresses listed previously.

(Catalog of Federal Domestic Assistance Program Number 20.205, Highway Research, Planning and Construction. The regulations implementing Executive Order 12372 regarding intergovernmental consultation on federal programs and activities apply to this program).

Authority: (23 U.S.C. 315; 49 CFR 1.48)

Issued on: June 11, 2001.
Dale W. Paulson,
Program Development Engineer.

[FR Doc. 01-15114 Filed 6-14-01; 8:45 am]

BILLING CODE 4910-22-M